SMALL BUSINESS ADMINISTRATION

Public Federal Regulatory Enforcement Fairness Hearing; Region VIII Regulatory Fairness Board

The U.S. Small Business Administration (SBA) Region VIII Regulatory Fairness Board and the SBA Office of the National Ombudsman will hold a public hearing on Tuesday, September 26, 2006, at 9 a.m. The meeting will take place at the Colorado District Office, 721 19th Street, Room 426, Maroom Bells Conference Center, Denver, CO 80202-2508. The purpose of the meeting is to receive comments and testimony from small business owners, small government entities, and small non-profit organizations concerning regulatory enforcement and compliance actions taken by Federal agencies.

Anyone wishing to attend or to make a presentation must contact Amy McDowell, in writing or by fax, in order to be placed on the agenda. Amy McDowell, Business Development Assistant, SBA, 721 19th Street, Room 426, Denver, CO 80202, phone (303) 844-2607, Ext. 209 and fax (303) 844-6539, e-mail: Amy.McDowell@sba.gov.

For more information, see our Web site at http://www.sba.gov/ombudsman.

Thomas M. Dryer,
Acting Committee Management Officer.

[FR Doc. E6-14779 Filed 9-6-06; 8:45 am]

BILLING CODE 8025-01-P